DEPARTMENT OF THE INTERIOR

Fish and Wildlife Service

Notice of Availability of the Assessment Plan for the Natural Resource Damage Assessment at the St. Louis River Interlake/Duluth Tar Superfund Site

AGENCY: Fish and Wildlife Service, Interior

ACTION: Notice of 30 day comment period.

SUMMARY: Notice is given that the document titled “Assessment Plan for the Natural Resource Damage Assessment at the St. Louis River Interlake/Duluth Tar Superfund Site, Draft 6/24/02” (“the Plan”) will be available for public review and comment on the date of publication in the Federal Register. The U.S. Departments of the Interior (Fish and Wildlife Service, Bureau of Indian Affairs) and Commerce (National Oceanic and Atmospheric Administration), the State of Minnesota (Minnesota Department of Natural Resources, Minnesota Pollution Control Agency), the Fond du Lac Band of Lake Superior Chippewa, and the 1854 Authority (representing the Bois Forte Band and Grand Portage Band of Lake Superior Chippewa) are trustees for natural resources (“trustees”) considered in this assessment, pursuant to subpart G of the National Oil and Hazardous Substances Pollution Contingency Plan, 40 CFR 300.600 and 300.610, and Executive Order 12580.

The trustees are following the guidance of the Natural Resource Damage Assessment Regulations found at 43 CFR part 11. The public review of the Plan announced by this Notice is provided for in 43 CFR 11.32(c).

Interested members of the public are invited to review and comment on the Plan. Copies of the Plan can be requested from the address listed below. All written comments will be considered by the trustees and included in the Report of Assessment at the conclusion of the assessment process.

DATES: Written comments on the Plan must be submitted within 30 days of the date of this Notice.

ADDRESSES: Comments on the Plan should be sent to: Marilyn Danks, Trustee Coordinator, Minnesota Department of Natural Resources, Division of Ecological Services, 500 Lafayette Road, St. Paul, MN 55155-4025.

Requests for copies of the Plan may be made to the Trustee Coordinator at the address listed above. The Trustee Coordinator will provide copies of all comments to all trustees.

You may also submit requests for copies of the Plan, and comments on the Plan, by sending electronic mail (e-mail) to: marilyn.danks@dnr.state.mn.us See SUPPLEMENTARY INFORMATION for information about electronic mailing and access.

FOR FURTHER INFORMATION CONTACT: Case Management and Logistical Information: Dave Warburton, 612-725-3548 (x203).

Technical Information: Annette Trowbridge, 612-725-3548 (x202).

SUPPLEMENTARY INFORMATION: The trustees are undertaking an assessment of damages resulting from suspected injuries to natural resources in and near the Lower St. Louis River that have been exposed to hazardous substances released by industrial activity at the St. Louis River Interlake/Duluth Tar Superfund Site. The trustees suspect this exposure has caused injury and resultant damages to trustee resources. The injury and resultant damages will be assessed under the Comprehensive Environmental Response, Compensation and Liability Act, as amended, and the Clean Water Act, as amended, in order to determine the appropriate type and extent of resource restoration. The Plan addresses the trustees' overall assessment approach, and utilizes both existing data as well as additional data to be collected as described in study in workplans attached to the Plan. Plan addenda may be prepared by the trustees to provide public notice of additional data collection activities. Restoration of natural resources will be proposed by the trustees following the assessment.

You may submit comments on the Plan by sending electronic mail (e-mail) to: marily.danks@dnr.state.mn.us. Do not use any special characters or forms of encryption in your e-mail. The trustees also accept comments in WordPerfect and Word versions as attachments to the e-mail or on disk. You may also request copies of the Plan by sending e-mail to the above address.

Dated: July 1, 2002.
Marvin E. Moriarty,
Regional Director, Region 3, U.S. Fish and Wildlife Service.

[FR Doc. 02-17251 Filed 7-9-02; 8:45 am]

BILLING CODE 4310-55-M